DEPARTMENT OF JUSTICE

Notice of Lodging of Consent Decree Under the Clean Air Act, Clean Water Act, RCRA, and EPCRA

Under 28 CFR 50.7, notice is hereby given that on December 22, 2000, a proposed Complaint and Consent Decree in United States v. Koch Petroleum Group, L.P., Civil Action No. 00-2756-PAM-SRN, was lodged with the United States District Court for the District of Minnesota.

In this action the United States sought civil penalties and injunctive relief against Koch Petroleum Group, L.P., (“Koch”) pursuant to section 113(b) of the Clean Air Act (“CAA”), 42 U.S.C. 7413(b) (1983), amended by, 42 U.S.C. 7413(b) (Supp. 1991), the Resource Conservation and Recovery Act, (“RCRA”), 42 U.S.C. 6901 et seq.; the Emergency Planning and Community Right to Know Act (“EPCRA”), 42 U.S.C. 11004(a); and the Clean Water Act (“CWA”), 33 U.S.C. 1321(b)(3) and (j) for alleged violations at Koch's 3 refineries: Pine Bend, Minnesota, and the East and West refineries in Corpus Christi, Texas. Under the settlement, Koch will implement innovative pollution control technologies to greatly reduce emissions of nitrogen oxides (“NOX”) and sulfur dioxide (“SO2”) from refinery process units and adopt facility-wide enhanced monitoring and fugitive emission control programs. In addition, Koch will pay a civil penalty of $4.5 million, $3.5 million of which is for settlement of the RCRA claims. The state of Minnesota will join in this settlement as a signatory to the Consent Decree.

The Department of Justice will receive for a period of thirty (30) days from the date of this publication comments relating to the Consent Decree. Comments should be addressed to the Assistant Attorney General, Environment and Natural Resources Division, PO Box 7611, U.S. Department of Justice, Washington, DC 20044-7611, and should refer to United States v. Koch Petroleum Group, L.P., D.J. Ref. 90-5-2-1-07110.

The Consent Decree may be examined at the Office of the United States Attorney, 234 United States Courthouse, 110 South Fourth Street, Minneapolis, Minnesota 55401 and at U.S. EPA Region 5, 77 West Jackson Blvd., Chicago, Illinois 60604. A copy of the Consent Decree may also be obtained by mail from the Consent Decree Library, PO Box 7611, U.S. Department of Justice, Washington, DC 20044-7611. In requesting a copy, please enclose a check in the amount of $39.50 (25 cents per page reproduction cost) payable to the Consent Decree Library.

Bruce Gelber,
Chief, Environmental Enforcement Section, Environment and Natural Resources Division.

[FR Doc. 01-923 Filed 1-10-01; 8:45 am]

BILLING CODE 4410-15-M